FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 31, 2013.

A Federal Reserve Bank of Minneapolis (Jacqueline G. King, Community Affairs Officer) 90 Hennepin Avenue, Minneapolis, Minnesota 55480-0291:

1. Karen Neidhardt, Tampa, Florida, individually and as trustee, to retain shares and thereby control Jorgenson Holding Company, Inc., Kenmare, North Dakota, and thereby retain control of State Bank and Trust of Kenmare, Kenmare, North Dakota, and The Citizens State Bank at Mohall, Mohall, North Dakota. In addition, Ann Lenore Musser Irrevocable Trust, Kenmare, North Dakota Karen Neidhardt, trustee and Jane Ellen Neidhardt Irrevocable Trust, Kenmare, North Dakota to retain shares of Jorgenson Holding Company and thereby join the Jorgenson family group that controls Jorgenson Holding Company.

2. Karen Neidhardt, Tampa, Florida; to retain shares of Jorgenson Williston Holding Company, Inc., Kenmare, North Dakota, and thereby indirectly retain control of First National Bank and Trust Company of Williston, Williston, North Dakota.

Board of Governors of the Federal Reserve System, October 11, 2013.
Michael J. Lewandowski,
Associate Secretary of the Board.

[FR Doc. 2013-24477 Filed 10-16-13; 8:45 am]

BILLING CODE 6210-01-P